DEPARTMENT OF THE INTERIOR

National Park Service

[NPS-WASO-NAGPRA-16418; PPWOCRADN0-PCU00RP14.R50000]

Notice of Intent To Repatriate Cultural Items: Arizona State Museum, University of Arizona, Tucson, AZ

AGENCY: National Park Service, Interior.

ACTION: Notice.

SUMMARY: The Arizona State Museum, in consultation with the appropriate Indian tribes or Native Hawaiian organizations, has determined that the cultural items listed in this notice meet the definition of unassociated funerary objects. Lineal descendants or representatives of any Indian tribe or Native Hawaiian organization not identified in this notice that wish to claim these cultural items should submit a written request to the Arizona State Museum. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Arizona State Museum at the address in this notice by October 10, 2014.

ADDRESSES: John McClelland, NAGPRA Coordinator, P.O. Box 210026, Arizona State Museum, University of Arizona, Tucson, AZ 85721, telephone (520) 626-2950.

SUPPLEMENTARY INFORMATION: Notice is here given in accordance with the Native American Graves Protection and Repatriation Act (NAGPRA), 25 U.S.C. 3005, of the intent to repatriate cultural items under the control of Arizona State Museum, University of Arizona, Tucson, AZ, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1949, four cultural items were removed from San Agustìn de Tucson, AZ BB:13:6(ASM), in Tucson, Pima County, AZ. The legally authorized excavations were conducted by the University of Arizona under the direction of Terah L Smiley. At the end of excavations, the archeological collections were brought the Arizona State Museum (ASM) and assigned accession numbers. The four unassociated funerary objects are four lots of glass beads.

Site AZ BB:13:6(ASM) is a multicomponent habitation and agricultural site. In the 1690s, Father Eusebio Kino traveled through southern Arizona and reported the presence of a Piman village on the west bank of the Santa Cruz River near Sentinel Peak. He named this village San Cosme de Tucson after Chuk-son, the Piman name for the village. By the early years of the 18th century, a visita was established at San Cosme as an extension of the mission of San Xavier Del Bac, located a few miles to the south. Priests from San Xavier would come to the visita occasionally to conduct baptisms and other rites for the village inhabitants. Beginning in the early 1770's construction began on more permanent facilities. The mission complex, renamed San Agustìn, eventually included a chapel, a two-story convent building, an orchard, a granary, and a cemetery for the Native American population. The mission was in use until the middle of the 19th century. Historical records indicate that Sections A and B of the cemetery were used for the internment of baptized Native Americans who were the inhabitants of the O'odham village. The O'odham people today are comprised of the Ak Chin Indian Community of the Maricopa (Ak Chin) Indian Reservation, Arizona, Gila River Indian Community of the Gila River Indian Reservation, Salt River Pima-Maricopa Indian Community of the Salt River Reservation, Arizona, and Tohono O'odham Nation of Arizona.

Determinations Made by the Arizona State Museum

Officials of the ASM have determined that:

• Pursuant to 25 U.S.C. 3001(3)(B), the 4 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Ak Chin Indian Community of the Maricopa (Ak Chin) Indian Reservation, Arizona; Gila River Indian Community of the Gila River Indian Reservation; Salt River Pima-Maricopa Indian Community of the Salt River Reservation, Arizona; and Tohono O'odham Nation of Arizona.

Additional Requestors and Disposition

Lineal descendants or representatives of any Indian tribe or Native Hawaiian organization not identified in this notice that wish to claim these cultural items should submit a written request with information in support of the claim to John McClelland, NAGPRA Coordinator, P.O. Box 210026, Arizona State Museum, University of Arizona, Tucson, AZ 85721, telephone (520) 626-2950, by October 10, 2014. After that date, if no additional claimants have come forward, transfer of control of the unassociated funerary objects to the Ak Chin Indian Community of the Maricopa (Ak Chin) Indian Reservation, Arizona; Gila River Indian Community of the Gila River Indian Reservation; Salt River Pima-Maricopa Indian Community of the Salt River Reservation, Arizona; and Tohono O'odham Nation of Arizona may proceed.

The Arizona State Museum is responsible for notifying the Ak Chin Indian Community of the Maricopa (Ak Chin) Indian Reservation, Arizona; Gila River Indian Community of the Gila River Indian Reservation; Salt River Pima-Maricopa Indian Community of the Salt River Reservation, Arizona; and Tohono O'odham Nation of Arizona that this notice has been published.

Dated: August 1, 2014.
Melanie O'Brien,
Acting Manager, National NAGPRA Program.

[FR Doc. 2014-21488 Filed 9-9-14; 8:45 am]

BILLING CODE 4312-50-P